DEPARTMENT OF DEFENSE

Department of the Army, Corps of Engineers

Notice of Open House—Draft Environmental Impact Statement for Updated Water Control Manuals for the Apalachicola-Chattahoochee-Flint River Basin

AGENCY: Department of the Army, U.S. Army Corps of Engineers, DoD.

ACTION: Notice of Availability.

SUMMARY: Notice is hereby given that the U.S. Army Corps of Engineers, Mobile District (USACE), has released the Draft Environmental Impact Statement (DEIS) and will conduct open house style meetings and accept comments on the Draft DEIS for the update of the Apalachicola-Chattahoochee-Flint Basin (ACF) Water Control Master Manual (Master Manual).

DATES: Comments on the DEIS are due not later than December 1, 2015.

ADDRESSES: Submit comments as indicated in the SUPPLEMENTARY INFORMATION section.

FOR FURTHER INFORMATION CONTACT: Mr. Lewis Sumner at telephone (251) 694-3857.

SUPPLEMENTARY INFORMATION: The Master Manual includes appendices prepared for individual projects in the ACF Basin and is the guide used by USACE to operate a system of five federal reservoir projects in the basin—Buford Dam and Lake Lanier, West Point Dam and Lake, Walter F. George Lock and Dam and Lake, George W. Andrews Lock and Dam and Lake, and Jim Woodruff Lock and Dam and Lake Seminole.

The purpose and need for the federal action is to determine how federal projects in the ACF Basin should be operated for their authorized purposes, in light of current conditions and applicable law, and to implement those operations through updated water control plans and manuals. The proposed action will result in an updated Master Manual and individual project water control manuals (WCMs) that comply with existing USACE regulations and reflect operations under existing congressional authorizations, taking into account changes in basin hydrology and demands from years of growth and development, new/rehabilitated structural features, legal developments, and environmental issues. The action includes updates to account for a June 28, 2011, decision of the 11th Circuit Court of Appeals.

On May 16, 2000, the Governor of the State of Georgia submitted a formal request to the Assistant Secretary of the Army (Civil Works) to adjust the operation of Lake Lanier, and to enter into agreements with the State or water supply providers to accommodate increases in water supply withdrawals from Lake Lanier and downstream at Atlanta over the next 30 years, culminating in total gross withdrawals of 705 million gallons per day (mgd)—297 mgd from Lake Lanier and 408 mgd downstream by the year 2030. The Assistant Secretary of the Army (Civil Works) in 2002 denied Georgia's request. The 2011 decision of the 11th Circuit Court of Appeals ordered USACE to reconsider whether it has the legal authority to operate the Buford project to accommodate Georgia's request. USACE provided a legal opinion concluding that it has sufficient authority under applicable law to accommodate that request, but noted that any decision to take action on Georgia's request would require a separate analysis. On January 11, 2013, the Governor of the State of Georgia provided updated demographic and water demand data to confirm the continued need for 705 mgd to meet Georgia's water needs from Lake Lanier and the Chattahoochee River to approximately the year 2040 rather than 2030 as specified in the 2000 request.

USACE's objectives for the Master Manual are to develop a Water Control Plan that meets the existing water resources needs of the basin, fulfills its responsibilities in operating for the authorized project purposes, and complies with all pertinent laws. The DEIS presents the results of USACE's analysis of the environmental effects of the Proposed Action Alternative (PAA) that the USACE believes accomplishes these objectives.

USACE evaluated an array of potential water management alternatives and optional water supply amounts during the Master Manual update process, resulting in the selection of the PAA. Additional information on the components of the PAA can be found at http://www.sam.usace.army.mil/Missions/PlanningEnvironmental/ACFMasterWaterControlManualUpdate/ACFDocumentLibrary.aspx. One alternative available to USACE is to continue with current operations. This approach is termed the No Action Alternative (NAA). The PAA would update the water control plans and manuals for the ACF Basin as directed by Secretary of the Army Pete Geren on January 30, 2008. Additionally, the PAA would provide for releases from Buford Dam to satisfy Georgia's 2040 need of 408 mgd from the Chattahoochee River for Metro Atlanta and would reallocate storage in Lake Lanier of 189,497 acre-feet to satisfy a portion of Georgia's 2040 need and support average annual water supply withdrawals of up to 165 mgd.

Document Availability

The DEIS and appendices are available to the public for review in the following formats:

• Online as PDF documents at http://www.sam.usace.army.mil/Missions/PlanningEnvironmental/ACFMasterWaterControlManualUpdate/ACFDocumentLibrary.aspx.

• As a CD when requested in writing to: Commander, U.S. Army Corps of Engineers, Mobile District, Attn: PD-EI (ACF-EIS), P.O. Box 2288, Mobile, AL 36628.

• A limited number of CD copies will also be available at the DEIS public meetings.

Public Review and Comment

The public comment period will commence with the publication of this notice and will end 60 days after its publication. USACE recognizes that the decisions made concerning revisions to the water control operations at USACE projects within the ACF Basin will have wide-ranging effects and encourages the public to submit comments on the content of the DEIS. All persons and organizations that have a potential interest in the proposed action, including minority, low-income, disadvantaged, and Native American groups, are urged to participate in this NEPA environmental analysis process by reviewing the DEIS and submitting comments for consideration.

Comments may be submitted via the following methods:

• Onsite at open houses through comment forms;

• Verbally through the court reporter at public meetings;

• By emailing acf-wcm@usace.army.mil;

• By letter addressed to: Commander, U.S. Army Corps of Engineers, Mobile District, Attn: PD-EI (ACF-DEIS), P.O. Box 2288, Mobile, AL 36628.

Further information regarding the update of the Master Manual, including all available documents, background and historical information, and updates is available online at the Web site given above.

Open Houses

Open houses are scheduled to be held at the following locations and times:

• Monday, October 26, 2015, 4:00 p.m.-7:00 p.m. Eastern time, Gainesville Civic Center, 830 Green Street NE., Gainesville, GA 30501.

• Tuesday, October 27, 2015, 4:00 p.m.-7:00 p.m. Eastern time, West Point Depot, 500 3rd Avenue, West Point, GA. 31833.

• Wednesday, October 28, 2015, 4:00 p.m.-7:00 p.m. Central time, James S. Clark Center, 333 E. Broad Street, Eufaula AL, 36027.

• Thursday, October 29, 2015, 4:00 p.m.-7:00 p.m. Eastern time, Bainbridge State College, Charles H. Kirbo Regional Center, 2500 E. Shotwell Street (US Highway 84), Bainbridge, GA 39819.

• Monday, November 9, 2015, 4:00 p.m.-7:00 p.m., Apalachicola National Estuarine Research Reserve, 108 Island Drive, Eastpoint, FL 32328.

Next Steps

All comments will be catalogued and reviewed after the 60-day public comment period. The final EIS (FEIS) is scheduled to be completed and filed with the USEPA in 2016. The Record of Decision, if appropriate, will be signed following the FEIS and the Master Manual is scheduled to be approved in March 2017.

Dated: September 23, 2015.
Jon J. Chytka,
Colonel, District Commander, Mobile District, U.S. Army Corps of Engineers.

[FR Doc. 2015-25057 Filed 10-1-15; 8:45 am]

BILLING CODE 3720-58-P